DEPARTMENT OF TRANSPORTATION

Federal Railroad Administration

Safety Advisory 2006-03

AGENCY: Federal Railroad Administration (FRA), Department of Transportation (DOT).

ACTION: Notice of Safety Advisory; Vertical Load Dividers.

SUMMARY: FRA is issuing Safety Advisory 2006-03, in order to provide interested parties information related to the potential failure of the welded attachment of vertical load dividers on certain center beam lumber flat cars. The welded attachment of the vertical load dividers on these cars can break away from the car body structure. The vertical load dividers are hollow square tubular steel beams approximately eight (8) feet in height that are welded to the car body structure. The vertical beams serve as load dividers for packaged lumber products.

FOR FURTHER INFORMATION CONTACT: Ronald Newman, Staff Director, Motive Power and Equipment Division (RRS-14), FRA Office of Safety Assurance and Compliance, 1120 Vermont Avenue, NW., Washington, DC 20590, telephone: (202) 493-6241 or Thomas Herrmann, Deputy Assistant Chief Counsel, FRA Office of Chief Counsel, 1120 Vermont Avenue, NW., Washington, DC 20590, telephone: (202) 493-6036.

SUPPLEMENTARY INFORMATION: FRA was recently made aware of the weld failure of a vertical load divider on center beam lumber flat car GWRC 52850. The failure occurred while the car was traveling on the main line of the Long Island Railroad. One of the vertical load divider beams detached (broke away) at its base from the main car body and came to rest on a Long Island Railroad passenger station platform (See Figure 1). This incident occurred on August 31, 2005, and resulted in no injuries. A post accident analysis of the weld attachment of the vertical load divider beam revealed poor and insufficient weld of the vertical load divider beams at time of original car construction. The involved car is one of five (5) center beam lumber flat cars owned by the Georgia Woodlands Railroad Company. As a result of this incident, Georgia Woodlands Railroad Company had the vertical load divider beams on all five of its cars re-welded and reinforced with support gussets to prevent the dividers from breaking in the area of the original weld.

FRA has reviewed ownership records of 52-foot, 8-inch, center beam flat cars and recommends that the 579 cars, identified below, receive an inspection and repair, if necessary, of the welded attachment of the vertical load dividers to prevent a potential catastrophic event. The following cars have been identified as having the potential for weld failures:

Car type | Car numbers | AAR car type | GRL, lbs. | Number of cars
52′-8″ C-Beam Flat | BCOL 52100-52454 | F-281 | 220 k | 347
52′-8″ C-Beam Flat | BCOL 52650-52801 | F-281 | 220 k | 141
52′-8″ C-Beam Flat | BCOL 52802-52900 | F-281 | 220 k | 91

Recommended Action: In recognition of the need to assure safety, FRA recommends that railroads and car owners carefully inspect the welded attachment of the vertical load divider on center beam lumber flat cars. The best inspection of the welded attachment would include the use of a dye penetrant type procedure to thoroughly detect weld cracks. FRA further recommends that cars found with poor or defective welds be repaired by using new welds and gussets in accordance with good quality control shop practices.

Car owners are encouraged to voluntarily take action to inspect and repair any center beam lumber flat cars that may be equipped with welded vertical load dividers. Failure of car owners to voluntarily take action consistent with the above recommendations may result in FRA pursuing other corrective measures to enforce public safety under its rail safety authority. FRA may modify Safety Advisory 2006-03, issue additional safety advisories, or take other appropriate action necessary to ensure the highest level of safety on the nation's railroads.

Issued in Washington, DC on April 27, 2006.
Jo Strang,
Associate Administrator for Safety.

BILLING CODE 4910-06-P

[FR Doc. 06-4173 Filed 5-3-06; 8:45 am]

BILLING CODE 4910-06-C